BROADCASTING BOARD OF GOVERNORS

22 CFR Part 502

Domestic Requests for Broadcasting Board of Governors Program Materials

AGENCY: Broadcasting Board of Governors.

ACTION: Final rule.

SUMMARY: The Broadcasting Board of Governors (“BBG”) finalizes an interim final rule, published in the Federal Register on July 2, 2013. The interim final rule established procedures for the BBG to respond to domestic requests from members of the public, organizations, and media, for program materials disseminated by BBG abroad. The BBG received and reviewed one public comment regarding the interim final rule, which is supportive of BBG broadcasting. BBG adopts the interim rule as final, with minor, technical amendments.

DATES: Effective November 8, 2013.

FOR FURTHER INFORMATION CONTACT: April Cabral, Senior Policy Advisor, International Broadcasting Bureau, Broadcasting Board of Governors, 330 Independence Avenue SW., Washington, DC 20237. Telephone number: (202) 203-4515.

SUPPLEMENTARY INFORMATION: For a more thorough explanation of the background for this rule, see the Supplementary Information section of 78 FR 39584.

Background

Section 501 of the U.S. Information and Educational Exchange Act, as amended, allows the BBG to respond to domestic requests for the BBG program materials, and requires the BBG to issue regulations that establish procedures for responding to such requests. The BBG published an interim final rule in the Federal Register, 78 FR 39584, on July 2, 2013, adding 22 CFR part 502. This rule established procedures for the BBG to respond to domestic requests for the agency's program materials.

Regulatory Findings and Analyses

For the complete regulatory findings and analyses regarding this rulemaking, please refer to the findings and analyses included in the Supplementary Information section of the interim final rule, 78 FR 39584, which are adopted herein. This rule was submitted to and reviewed by OMB. As noted in the interim final rule, OMB designated this rule non-significant, as defined by Executive Order 12866. Regardless, the BBG has reviewed the rule to ensure its consistency with the regulatory principles set forth in Executive Orders 12866 and 13563, and affirms that this rule is consistent with the guidance in these Executive Orders.

Analysis of Comments

The interim final rule, 78 FR 39584, contained a 60 day period for public comments that ended on September 2, 2013. The BBG received one comment. The only comment expressed support for the BBG and encouraged the agency to continue broadcasting.

Amendments to the Final Rule

BBG proposes minor changes to make a technical amendment in paragraph 502.3(b), correct a typographical error in paragraph 502.5(a), clarify the process for media and organization one-time requests for broadcast-quality agency program materials, and simplify explanations of requestors' responsibilities to secure rights and licenses before using agency program materials that contain third-party copyrighted materials.

List of Subjects in 22 CFR Part 502

Broadcasting, Foreign relations, News media, Public affairs, Radio, Recordings, Smith-Mundt, Television.

Accordingly, the interim final rule, amending 22 CFR part 502, published in the Federal Register on July 2, 2013, at 78 FR 39584, is adopted as final, with the following changes:

PART 502—DOMESTIC REQUESTS FOR BROADCASTING BOARD OF GOVERNORS PROGRAM MATERIALS

1. The authority citation for part 502 continues to read as follows:

Authority: 22 U.S.C. 1461, 1461-1a.

2. Section 502.3, in paragraph (b) introductory text, is amended by removing the clause “after their dissemination abroad”.

3. Section 502.4 is revised to read as follows:

§ 502.4 Media or organization one-time requests for broadcast quality agency program materials.

Upon request, the Agency may provide a broadcast-quality copy of Agency program materials to media entities, educational organizations, not-for-profit corporations, or other requestors. Requestors will be informed if materials are subject to third party content holders' restrictions. One-time requests for broadcast quality copies of Agency program materials should be directed to:

(a) The Voice of America Office of Public Relations for broadcast-quality copies of Voice of America program materials; and

(b) The TV Marti Division of the Office of Cuba Broadcasting for broadcast-quality copies of TV or Radio Marti program materials.

4. Section 502.5 is revised to read as follows:

§ 502.5 Media or organization requests for ongoing subscriptions to broadcast quality agency program materials

(a) Upon request, the Agency may make program materials available on an ongoing basis to Media entities, or other organizations, through a subscription agreement, provided that the Agency determines that entering into a subscription agreement to make program materials available on an ongoing basis would be consistent with the Agency's mission and authorities. Requested, ongoing subscription agreements must be consistent with the Agency's Policy for domestic distribution which incorporates the Broadcasting principles and standards and other requirements, found in 22 U.S.C. 1461, 1461-1a, 1462, 6201, 6202, 6203, 6204, 6205, 6206; Pub. L. 112-239, section 1078(b), 126 Stat. 1632, 1958; agreements with third-parties that hold a copyright in Agency program materials; and Terms of Use on Agency Web sites. Requestors shall secure all necessary licenses from all persons or organizations that hold a copyright in any portion of program materials before making any use of those program materials, except uses of program materials permitted by the Copyright Act of 1976, as amended.

(b) Media entities or other organizations may request ongoing subscriptions by filling out an application form found on the Web site for the Direct System, the Agency's professional distribution system.

5. Section 502.6 is amended by removing the last sentence in paragraph (b)(2).

Dated: November 5, 2013.
Richard M. Lobo,
Director, International Broadcasting Bureau.

[FR Doc. 2013-26833 Filed 11-7-13; 8:45 am]

BILLING CODE 8610-01-P